ELECTION ASSISTANCE COMMISSION

Notice of Sunshine Act Meeting

AGENCY: United States Election Assistance Commission.

ACTION: Notice of public meeting for the Executive Board of the EAC Standards Board.

DATE AND TIME: Monday, May 22, 2006, 7-9 p.m.

PLACE: Hamilton Crowne Plaza, 1001 14th Street, NW. (14th and K Streets, NW.), Washington, DC 20005, (202) 682-0111.

TOPICS: The Executive Board of the U.S. Election Assistance Commission (EAC) Standards Board will meet to plan and prepare for the meeting of Standards Board, and to handle other administrative matters.

This meeting will be open to the public.

FOR FURTHER INFORMATION CONTACT: Bryan Whitener, Telephone: (202) 566-3100.

Thomas R. Wilkey,
Executive Director, U.S. Election Assistance Commission.

[FR Doc. 06-4296 Filed 5-3-06; 4:11 pm]

BILLING CODE 6820-KF-M